DEPARTMENT OF ENERGY

Federal Energy Regulatory Commission

[Docket No. RP02-57-000]

Dominion Transmission, Inc.; Notice of Proposed Changes in FERC Gas Tariff

November 30, 2001.

Take notice that on November 27, 2002, Dominion Transmission Inc. (DTI), filed as part of its FERC Gas Tariff, Third Revised Volume No. 1, the following revised tariff sheets, with an effective date of January 1, 2002:

Second Revised Sheet No. 606

Third Revised Sheet No. 1000

Second Revised Sheet No. 1057

First Revised Sheet No. 1093

Second Revised Sheet No. 1112

Second Revised Sheet No. 1117

Second Revised Sheet No. 1119

Second Revised Sheet No. 1120

Second Revised Sheet No. 1126

Second Revised Sheet No. 1171

Third Revised Sheet No. 1184

Second Revised Sheet No. 1185

First Revised Sheet Nos. 2000-2005

First Revised Sheet Nos. 2052-2054

First Revised Sheet Nos. 2101-2104

First Revised Sheet No. 2151

First Revised Sheet No. 2153

First Revised Sheet No. 2154

First Revised Sheet No. 2156

Second Revised Sheet No. 2203

Second Revised Sheet No. 2204

Second Revised Sheet No. 2206

First Revised Sheet No. 2252

First Revised Sheet No. 2253

Third Revised Sheet No. 2304

First Revised Sheet No. 2305

First Revised Sheet No. 2352

First Revised Sheet No. 2353

First Revised Sheet Nos. 2402-2404

First Revised Sheet Nos. 2452-2454

First Revised Sheet No. 2501

First Revised Sheet No. 2506

First Revised Sheet No. 2507

DTI is filing the above-referenced tariff sheets to make various administrative changes and correct typographical errors.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30254 Filed 12-5-01; 8:45 am]

BILLING CODE 6717-01-P